DEPARTMENT OF COMMERCE

International Trade Administration

[C-570-074]

Common Alloy Aluminum Sheet From the People's Republic of China: Final Results of Countervailing Duty Administrative Review; 2021

AGENCY: Enforcement and Compliance, International Trade Administration, Department of Commerce.

SUMMARY: The U.S. Department of Commerce (Commerce) determines that countervailable subsidies were provided to producers and exporters of common alloy aluminum sheet (CAAS) from the People's Republic of China (China) during the period of review (POR), January 1, 2021, through December 31, 2021.

DATES: Applicable August 2, 2023.

FOR FURTHER INFORMATION CONTACT: James R. Hepburn or Scarlet K. Jaldin, AD/CVD Operations, Office VI, Enforcement and Compliance, International Trade Administration, U.S. Department of Commerce, 1401 Constitution Avenue NW, Washington, DC 20230; telephone: (202) 482-1882 or (202) 482-4275, respectively.

SUPPLEMENTARY INFORMATION:

Background

Commerce published the Preliminary Results of this administrative review in the Federal Register on March 7, 2023, and invited interested parties to comment.¹ On April 17, 2023, we received a case brief ² from the domestic industry.³ On April 24, 2023, we received a joint rebuttal brief from Alcha ⁴ and Yinbang Clad Materials Co., Ltd. (Yinbang).⁵ For a detailed description of the events that occurred subsequent to the Preliminary Results, see the Issues and Decision Memorandum.⁶ On June 21, 2023,⁷ in accordance with section 751(a)(3)(A) of the Tariff Act of 1930, as amended (the Act), Commerce extended the deadline for issuing the final results until July 28, 2023.

¹ See Common Alloy Aluminum Sheet from the People's Republic of China: Preliminary Results of Countervailing Duty Administrative Review; 2021, 88 FR 14127 (March 7, 2023) (Preliminary Results), and accompanying Preliminary Decision Memorandum.

² See Domestic Industry's Letter, “Case Brief,” dated April 17, 2023.

³ The domestic industry is represented by the Aluminum Association Common Alloy Aluminum Sheet Trade Enforcement Working Group and its individual members are: Arconic Corporation; Commonwealth Rolled Products, Inc.; Constellium Rolled Products Ravenswood, LLC; Jupiter Aluminum Corporation; JW Aluminum Company; and Novelis Corporation.

⁴ The “Alcha” companies include the following: Alcha International Holdings Limited (Alcha International); Jiangsu Alcha Aluminium Group Co., Ltd. (Jiangsu Alcha); Baotou Alcha Aluminium Co., Ltd. (Baotou Alcha); and Jiangsu Alcha New Energy Materials Co., Ltd. (Alcha Materials). We refer to Alcha International, Jiangsu Alcha, Baotou Alcha, and Jiangsu Alcha Materials, hereafter, collectively, “Alcha.”

⁵ See Alcha's and Yinbang's Letter, “Rebuttal Brief,” dated April 24, 2023.

⁶ See Memorandum, “Issues and Decision Memorandum for the Final Results of the Countervailing Duty Administrative Review of Common Alloy Aluminum Sheet from the People's Republic of China; 2021,” dated concurrently with, and hereby adopted by, this notice (Issues and Decision Memorandum).

⁷ See Memorandum, “Extension of Deadline for Final Results of Countervailing Duty Administrative Review,” dated June 21, 2023.

Scope of the Order

The product covered by the order is CAAS from China.⁸ For a complete description of the scope of this Order, see the Issues and Decision Memorandum.

⁸ See Common Alloy Aluminum Sheet from the People's Republic of China: Countervailing Duty Order, 84 FR 2157 (February 6, 2019) (Order).

Analysis of Comments Received

All issues raised by interested parties are addressed in the Issues and Decision Memorandum. A list of the issues addressed in the Issues and Decision Memorandum is provided in the appendix to this notice. The Issues and Decision Memorandum is a public document and is on file electronically via Enforcement and Compliance's Antidumping and Countervailing Duty Centralized Electronic System (ACCESS). ACCESS is available to registered users at https://access.trade.gov. In addition, a complete version of the Issues and Decision Memorandum can be accessed directly at https://access.trade/gov/public/FRNoticesListLayout.aspx.

Changes Since the Preliminary Results

Based on our analysis of comments from interested parties and the evidence on the record, we revised the calculation of the net countervailable subsidy rates for Alcha and Yinbang. For a discussion of the issues and changes, see Issues and Decision Memorandum.

Methodology

Commerce is conducting this administrative review in accordance with section 751(a)(1)(A) of the Act. For each of the subsidy programs found countervailable, we find that there is a subsidy, i.e., a financial contribution from an authority that gives rise to a benefit to the recipient and that the subsidy is specific.⁹ The Issues and Decision Memorandum contains a full description of the methodology underlying Commerce's conclusions, including any determination that relied upon the use of adverse facts available pursuant to sections 776(a) and (b) of the Act.

⁹ See sections 771(5)(B) and (D) of the Act regarding financial contribution; section 771(5)(E) of the Act regarding benefit; and section 771(5A) of the Act regarding specificity.

Final Results of Administrative Review

In accordance with 19 CFR 351.221(b)(5), Commerce calculated a countervailable subsidy rate for the mandatory respondents that are identified below. Because there are no other producers or exporters subject to this review and not selected for individual examination (i.e., non-selected companies), Commerce does not need to establish a rate for such companies in this review.

¹⁰ We initiated this review on Jiangsu Alcha Aluminium Co., Ltd. However, it was reported that “Jiangsu Alcha Aluminium Co., Ltd.,” also known as “Jiangsu Alcha Aluminum Co., Ltd.,” legally changed its name to “Jiangsu Alcha Aluminium Group Co., Ltd.” on May 21, 2019. It was also reported that both “Jiangsu Alcha Aluminium Group Co., Ltd.” and “Jiangsu Alcha Aluminum Group Co., Ltd.” refer to the same entity. Accordingly, we intend to treat “Jiangsu Alcha Aluminium Group Co., Ltd.” and “Jiangsu Alcha Aluminum Group Co., Ltd.” (formerly known as “Jiangsu Alcha Aluminium Co., Ltd.” or “Jiangsu Alcha Aluminum Co., Ltd.”) as one entity (Jiangsu Alcha). For further discussion, see the Preliminary Decision Memorandum at section “II. Background.”

¹¹ It was reported that although the legal name for one of Jiangsu Alcha's subsidiaries is “Baotou Alcha Aluminium Co., Ltd.,” other names (i.e., “Baotou Alcha Aluminum Co., Ltd.,” “Baotou Alcha North Aluminum Co., Ltd.,” and “Baotou Changlv Northern Aluminium Industry Co., Ltd.”) also refer to the same entity due to different English translations of its Chinese-language name. Accordingly, we intend to treat “Baotou Alcha Aluminium Co., Ltd.,” “Baotou Alcha Aluminum Co., Ltd.,” “Baotou Alcha North Aluminum Co., Ltd.,” and “Baotou Changlv Northern Aluminium Industry Co., Ltd.” as one entity (Baotou Alcha). For further discussion, see the Preliminary Decision Memorandum at section “II. Background.”

¹² We find that Baotou Alcha and Alcha Materials are crossed-owned with Jiangsu Alcha. In addition, Alcha International is wholly owned by Jiangsu Alcha. For further discussion, see Preliminary Decision Memorandum.

Commerce determines the net countervailable subsidy rates for the period January 1, 2021, through December 31, 2021, are as follows:

Company | Subsidy rate (percent ad valorem)
Alcha International Holdings Limited; Jiangsu Alcha Aluminium Group Co., Ltd., and Jiangsu Alcha Aluminum Group Co., Ltd. (both formally known as Jiangsu Alcha Aluminium Co., Ltd. or Jiangsu Alcha Aluminum Co., Ltd.); ¹⁰ Baotou Alcha Aluminium Co., Ltd., Baotou Alcha Aluminum Co., Ltd., Baotou Alcha North Aluminum Co., Ltd., and Baotou Changlv Northern Aluminium Industry Co., Ltd.; ¹¹ and Jiangsu Alcha New Energy Materials Co., Ltd ¹² | 11.25
Yinbang Clad Material Co., Ltd | 12.21

Assessment Rates

Pursuant to section 751(a)(2)(C) of the Act and 19 CFR 351.221(b)(2), Commerce will determine, and U.S. Customs and Border Protection (CBP) shall assess, countervailing duties on all appropriate entries of subject merchandise in accordance with the final results of this review, for the companies listed above at the applicable ad valorem assessment rates listed. We intend to issue assessment instructions to CBP no earlier than 35 days after the date of publication of these final results of this review in the Federal Register. If a timely summons is filed at the U.S. Court of International Trade, the assessment instructions will direct CBP not to liquidate relevant entries until the time for parties to file a request for a statutory injunction has expired (i.e., within 90 days of publication).

Cash Deposit Instructions

In accordance with section 751(a)(1) of the Act, Commerce intends to instruct CBP to collect cash deposits of estimated countervailing duties in the amounts shown for each of the respective companies listed above on shipments of subject merchandise entered, or withdrawn from warehouse, for consumption on or after the date of publication of the final results of this administrative review. With regard to Jiangsu Alcha, we intend to instruct CBP to collect cash deposits of estimated countervailing duties under its new names (i.e., “Jiangsu Alcha Aluminium Group Co., Ltd.,” “Jiangsu Alcha Aluminum Group Co., Ltd.”). Concerning Baotou Alcha, we intend to instruct CBP to collect cash deposits of estimated countervailing duties under all of its names as identified in this notice. These cash deposit requirements, effective upon publication of the final results of review, shall remain in effect until further notice.

Administrative Protective Order

This notice also serves as a reminder to parties subject to an APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

We are issuing and publishing these final results of administrative review and notice in accordance with sections 751(a)(l) and 777(i)(l) of the Act, and 19 CFR 351.221(b)(5).

Dated: July 27, 2023.
Abdelali Elouaradia,
Deputy Assistant Secretary for Enforcement and Compliance.

Appendix

List of Topics Discussed in the Issues and Decision Memorandum

I. Summary

II. Background

III. Scope of the Order

IV. Diversification of China's Economy

V. Use of Facts Otherwise Available and Application of Adverse Inferences

VI. Subsidies Valuation Information

VII. Analysis of Programs

VIII. Changes Since the Preliminary Results

IX. Discussion of the Issues

Comment 1: Whether Commerce Should Find That Falcon Technology Co., Ltd. Met the Criteria for Attribution of Subsidies with Yinbang and Apply an AFA Subsidy Rate for Each Initiated Program to Falcon

Comment 2: Whether Commerce Should Find Alcha and Yinbang Used the Export Buyer's Credit Program as Adverse Facts Available

Comment 3: Whether Commerce Should Subtract Certain Adjustment Amounts From Yinbang's POR Sales Value

Comment 4: Whether Commerce Should Revise its Calculation of the Benchmark for Primary Aluminum for Less Than Adequate Remuneration

Comment 5: Whether Commerce Should Apply Partial AFA to Jiangsu Alcha and Include Financing From Non-Reporting Affiliates as Policy Loans to the Common Alloy Sheet Industry (Policy Loans to the CAAS Industry) Program

Comment 6: Whether Commerce Should Make Certain Adjustments to the Calculation of Benefit From Certain Financial Leases of Yinbang Under Policy Loans to the CAAS Industry

Comment 7: Whether Commerce Should Make Certain Revisions to Its Calculation of Baotou Alcha's Benefits From Policy Loans to the CAAS Industry

Comment 8: Whether Commerce Should Make Certain Revisions to Its Calculation for Provision of Electricity for LTAR

X. Recommendation

[FR Doc. 2023-16463 Filed 8-1-23; 8:45 am]

BILLING CODE 3510-DS-P